DEPARTMENT OF LABOR

Employment and Training Administration

[NAFTA-04081]

Mountaineer Precision Tool & Mold, Inc., Waynesville, North Carolina; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 U.S.C. 2273), an investigation was initiated on August 15, 2000 in response to a petition filed on behalf of workers at Mountaineer Precision Tool & Mold, Inc., Waynesville, North Carolina.

In a letter dated September 12, 2000, the NAFTA-TAA Coordinator in North Carolina requested that the investigation of the NAFTA-TAA petition be terminated based on the inability of the State agency to obtain any information in the case.

Consequently, further investigation in this case would serve no purpose, and the investigation has been terminated.

Signed at Washington, DC, this 19th day of September, 2000.
Edward A. Tomchick,
Director, Division of Trade Adjustment Assistance.

[FR Doc. 00-25064 Filed 9-28-00; 8:45 am]

BILLING CODE 4510-30-M